DEPARTMENT OF VETERANS AFFAIRS

[OMB Control No. 2900-0406]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 28, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0406”.

SUPPLEMENTARY INFORMATION: Title: Verificiation of VA Benefit-Related Indebtedness, VA Form 26-8937.

OMB Control Number: 2900-0406.

Type of Review: Extension of a currently approved collection.

Abstract: Lender authorized to make VA-guaranteed home or manufactured loans on the automatic basis have been required to determine through VA whether any benefits related debts exist in the veteran-borrower's name prior to the closing of any automatic loan. Lenders may not close any proposed automatic loan until they have evidence from VA that there is no debt, or if a debt exists, the veteran has agreed on an acceptable repayment plan, or payments under a plan already in effect are current. The form also provides information advising the lender whether or not the veteran is exempt from paying the funding fee, which must be collected on all VA home loans unless the veteran is receiving service-connected disability compensation. This benefits the lender by streamlining the procedure to verify the veteran's receipt of compensation. VA Form 26-8937 is designed to assist lenders and VA in the completion of debt checks in a uniform manner.

An agency may not conduct or sponsor, and a person is not required to respond to a collection of information unless it displays a currently valid OMB control number. The Federal Register Notice with a 60-day comment period soliciting comments on this collection of information was published on August 31, 2000, at page 53091.

Affected Public: Individuals or households.

Estimated Annual Burden: 6,250 hours.

Estimated Average Burden Per Respondent: 5 minutes.

Frequency of Responses: On occasion.

Estimated Number of Respondents: 75,000.

Send comments and recommendations concerning any aspect of the information collection to VA's Desk Officer, OMB Human Resources and Housing Branch, New Executive Office Building, Room 10235, Washington, DC 20503 (202) 395-7316. Please refer to “OMB Control No. 2900-0406” in any correspondence.

Dated: November 2, 2000.
By direction of the Secretary.
Donald L. Neilson,
Director, Information Management Service.

[FR Doc. 00-30301 Filed 11-22-00; 8:45 am]

BILLING CODE 8320-01-U